DEPARTMENT OF HEALTH AND HUMAN SERVICES

Health Resources and Services Administration

Updates to the Bright Futures Periodicity Schedule

AGENCY: Health Resources and Services Administration (HRSA), Department of Health and Human Services (HHS).

ACTION: Notice.

SUMMARY: Effective December 30, 2021, HRSA accepted recommended updates to the Bright Futures Periodicity Schedule, a HRSA-supported guideline for infants, children and adolescents for purposes of ensuring that non-grandfathered group and individual health insurance issuers provide coverage without cost sharing under the Public Health Service Act. The updates to the Bright Futures Periodicity Schedule are: A new category for sudden cardiac arrest and sudden cardiac death risk assessment, a new category for hepatitis B virus infection risk assessment, addition of suicide risk as an element of universal depression screening for children ages 12-21, and updated category title from “Psychosocial/Behavioral Assessment” to “Behavioral/Social/Emotional Screening,” with no revision to the ages in which the screening occurs (newborn to 21 years). Finally, two clarifying references related to dental fluoride varnish and fluoride supplementation have been added, with no associated recommended changes to clinical practice or health insurance coverage. Please see https://mchb.hrsa.gov/maternal-child-health-topics/child-health/bright-futures.html for additional information.

FOR FURTHER INFORMATION CONTACT: Savannah Kidd, M.S. MFT, HRSA/Maternal and Child Health Bureau by calling 301-287-2601 or by emailing at SKidd@hrsa.gov.

SUPPLEMENTARY INFORMATION: The Bright Futures program has been funded by HRSA since 1990. A primary focus of this program is for the funding recipient to maintain and recommend updates to the Bright Futures Guidelines for Health Supervision of Infants, Children and Adolescents, a set of materials and tools that provide theory-based and evidence-driven guidance for all preventive care screenings and well-child visits. One component of these tools is the Bright Futures Periodicity Schedule, a chart that identifies the recommended screenings, assessments, physical examinations, and procedures to be delivered within preventive checkups at each age milestone. Over the program's existence, the Bright Futures Periodicity Schedule has become the accepted schedule within the United States for preventive health services through the course of a child's development.

Section 2713 of the Public Health Service Act (42 U.S.C. 300gg-13), added by the Patient Protection and Affordable Care Act (Pub. L. 111-148), requires that non-grandfathered group health plans and health insurance issuers offering group or individual health insurance coverage provide coverage without cost-sharing for certain preventive health services. Section 2713(a)(3) describes such services for infants, children, and adolescents as “evidence-informed preventive care and screenings provided for in the comprehensive guidelines supported by the Health Resources and Services Administration.” HHS, along with the Departments of Treasury and Labor, issued an Interim Final Rule on July 19, 2010 (75 FR 41726-41760) that identified two specific resources as the comprehensive guidelines supported by HRSA for infants, children, and adolescents to be covered by insurance without cost sharing by non-grandfathered group health plans and health insurance issuers: (1) The Bright Futures Periodicity Schedule and (2) the Recommended Uniform Screening Panel of the Advisory Committee on Heritable Disorders in Newborns and Children. The Interim Final Rule provided that a future change to these comprehensive guidelines is considered to be issued for purposes of Section 2713 on the date on which it is accepted by the HRSA Administrator or, if applicable, adopted by the Secretary of HHS.

A public comment period was announced and occurred from September 13, 2021, through October 13, 2021 (86 FR 50894, September 13, 2021),¹ to allow public comment on the proposed recommended updates affecting clinical practice and health insurance coverage requirements. A total of 27 respondents gave 57 comments during the public comment period. The Bright Futures grantee, the American Academy of Pediatrics, received and considered the public comments. The annual report (Tab A) provides a description of the comments, including a detailed tabulation of each comment.

¹ See https://www.federalregister.gov/documents/2021/09/13/2021-19630/opportunity-for-comments-on-proposed-updates-to-the-bright-futures-periodicity-schedule-as-part-of.

On December 30, 2021, the HRSA Administrator accepted the American Academy of Pediatrics' recommended several updates to the Bright Futures Periodicity Schedule. The Bright Futures recommendations included recommended clinical practice updates, along with revisions to the footnotes on the Bright Futures Periodicity Schedule that do not require changes to clinical practice or health insurance coverage. The updates to the Bright Futures Periodicity Schedule are: (1) A new category for sudden cardiac arrest and sudden cardiac death risk assessment, (2) a new category for hepatitis B virus infection risk assessment, (3) addition of suicide risk as an element of universal depression screening for children ages 12-21, and (4) updated category title from “Psychosocial/Behavioral Assessment” to “Behavioral/Social/Emotional Screening,” with no revision to the ages in which the screening occurs (newborn to 21 years). Finally, two clarifying references related to dental fluoride varnish and fluoride supplementation have been added with no associated recommended changes to clinical practice. In light of these updates, all non-grandfathered group health plans and health insurance issuers offering group or individual health insurance coverage must cover without cost-sharing the services and screenings listed on the updated Bright Futures Periodicity Schedule for plan years (in the individual market, policy years) that begin in 2023, which can be accessed at the following link: https://mchb.hrsa.gov/maternal-child-health-topics/child-health/bright-futures.html.

Diana Espinosa,
Acting Administrator.

[FR Doc. 2022-00461 Filed 1-11-22; 8:45 am]

BILLING CODE 4165-15-P